DEPARTMENT OF LABOR

Employment and Training Administration

[TA-W-41,778]

Robert Bosch Corporation, Automotive Group, Braking Systems Division, Ashland, OH; Notice of Termination of Investigation

Pursuant to section 221 of the Trade Act of 1974, an investigation was initiated in response to a petition received July 8, 2002 by the company on behalf of workers at Robert Bosch Corporation, Automotive Group, Braking Systems Division, Ashland, Ohio.

An active certification covering the petitioning group of workers remains in effect (TA-W-39,534, expires August 8, 2003). Consequently, further investigation in this case would serve no purpose and the investigation has been terminated.

Signed in Washington, DC, this 28th day of August, 2002.
Linda G. Poole,
Certifying Officer, Division of Trade Adjustment Assistance.

[FR Doc. 02-22973 Filed 9-9-02; 8:45 am]

BILLING CODE 4510-30-P